DEPARTMENT OF EDUCATION

[Docket No.: ED-2023-SCC-0174]

Agency Information Collection Activities; Submission to the Office of Management and Budget for Review and Approval; Comment Request; Engage Every Student Recognition Program

AGENCY: Office of Finance and Operations (OFO), Department of Education (ED).

ACTION: Notice.

SUMMARY: In accordance with the Paperwork Reduction Act (PRA) of 1995, the Department is proposing a new information collection request (ICR).

DATES: Interested persons are invited to submit comments on or before January 4, 2024.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Shital Shah, 202-377-4990.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Engage Every Student Recognition Program.

OMB Control Number: 1894-NEW.

Type of Review: A new ICR.

Respondents/Affected Public: Individuals and Households.

Total Estimated Number of Annual Responses: 570.

Total Estimated Number of Annual Burden Hours: 855.

Abstract: The American Rescue Plan (ARP) provides funding for implementing comprehensive, evidence-based programs to ensure resources respond to students' academic, social, and emotional needs and address the disproportionate impact of COVID-19 on student populations. Using resources provided by the ARP, States, districts, and their partners can use out-of-school time (OST) to address the disproportionate impact of COVID-19 on students, families, and their communities. Out-of-school time programs, which occur before or after the regular school day or outside of the regular school year, can include a wide range of activities, including comprehensive afterschool or summer-learning and enrichment programs, vacation academies, work-based learning programs, youth development programs, and experiential or service-learning programs.

On July 14th, 2022, the U.S. Department of Education, along with the Afterschool Alliance, AASA—the School Superintendents Association, the National Comprehensive Center at Westat, the National League of Cities and the National Summer Learning Association, launched the Engage Every Student Initiative designed to ensure that every student who wants a spot in a high-quality out-of-school time program has one. In the Fall of 2023, the U.S. Department of Education and the five partnering organizations designed the Engage Every Student Recognition Program, which aims to recognize (1) non-profit organizations working in collaboration with school district/local education agencies (LEAs) or (2) municipalities or local government entities working in collaboration with school district/local education agencies (LEAs) that engage K-12 students in high-quality afterschool or summer learning programming, with high-quality being defined as meeting students' social, emotional, mental, and physical health, and academic needs and addressing the impact of COVID-19 on students' opportunity to learn.

Dated: November 30, 2023.
Stephanie Valentine,
PRA Coordinator, Strategic Collections and Clearance, Governance and Strategy Division, Office of Chief Data Officer, Office of Planning, Evaluation and Policy Development.

[FR Doc. 2023-26677 Filed 12-4-23; 8:45 am]

BILLING CODE 4000-01-P